SOCIAL SECURITY ADMINISTRATION

[Docket No. SSA-2024-0051]

Privacy Act of 1974; Matching Program

AGENCY: Social Security Administration (SSA).

ACTION: Notice of a new matching program.

SUMMARY: In accordance with the provisions of the Privacy Act, as amended, this notice announces a new matching program with the United Stated Department of Health and Human Services, Office of Child Support Services (OCSS). Under this matching program, OCSS will provide SSA with quarterly wage (QW) and unemployment insurance (UI) information located in the National Directory of New Hires (NDNH) to allow SSA to determine eligibility of applicants for Extra Help (low-income subsidy assistance) under the Medicare Prescription Drug, Improvement, and Modernization Act (MMA) of 2003. This agreement assists SSA in determining eligibility of applicants for Extra Help, redetermining eligibility of existing Extra Help beneficiaries during periodic screening, and administering the Extra Help program.

DATES: The deadline to submit comments on the proposed matching program is May 12, 2025.

The matching program will be applicable on May 27, 2025, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2024-0051 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2024-0051 and then submit your comments. The system will issue you a tracking number to confirm your submission. You will not be able to view your comment immediately because we must post each submission manually. It may take up to a week for your comments to be viewable.

2. Fax: Fax comments to (833) 410-1631.

3. Mail: Matthew Ramsey, Executive Director, Office of Privacy and Disclosure, Office of Law and Policy, Social Security Administration, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Andrea Huseth, Division Director, Office of Privacy and Disclosure, Office of Law and Policy, Social Security Administration, 6401 Security Boulevard, Baltimore, MD 21235-6401, at telephone: (410) 608-9675, or send an email to andrea.huseth@ssa.gov.

SUPPLEMENTARY INFORMATION: None.

Matthew Ramsey,
Executive Director, Office of Privacy and Disclosure, Office of Law and Policy.

Participating Agencies

SSA and OCSS.

Authority for Conducting the Matching Program

This computer matching agreement (agreement) between OCSS and SSA is executed pursuant to the Social Security Act (Act) and the Privacy Act of 1974, as amended. Subsection 453(j)(4) of the Act provides that OCSS shall provide the Commissioner of SSA with all information in the NDNH. 42 U.S.C. 653(j)(4). SSA has authority to use the data to determine entitlement to and eligibility for programs it administers pursuant to sections 1631(e)(1)(B) and(f), and 1860D-14(a)(3) of the Act, codified at 42 U.S.C. 1383(e)(1)(B) and (f), and 1395w-114(a)(3)). Disclosures under this agreement are authorized by routine uses published in each agency's applicable System of Records Notice pursuant to 5 U.S.C. 552a(b)(3).

The Act provides that the determination of whether a Part D eligible individual residing in a state is a subsidy eligible individual shall be determined under the state plan for medical assistance or by the Commissioner of Social Security. 42 U.S.C. 1395w-114(a)(3)(B)(i).

SSA has independent authority to collect this information regarding Medicare Parts A-D eligibility and premium calculations via sections 202-205, 223, 226, 228, 1611, 1631, 1818, 1836, 1839, 1840, and 1860D-1 to 1860D-15 of the Act (42 U.S.C. 402-405, 423, 426, 428, 1382, 1383, 1395i-2, 1395o, 1395r, 1395s, and 1395w-101 to 1395w-115).

Purpose(s)

This agreement governs a matching program between OCSS and SSA. OCSS will provide SSA with QW and UI information from the NDNH to assist SSA in determining eligibility of applicants for Extra Help (low-income subsidy assistance) under the Medicare Prescription Drug, Improvement, and Modernization Act (MMA) of 2003 (Pub. L. 108-173) (Extra Help). This agreement also governs the use, treatment, and safeguarding of the information exchanged. OCSS is the “source agency” and SSA is the “recipient agency,” as defined by the Privacy Act. 5 U.S.C. 552a(a)(9) and (11).

This matching program assists SSA in: (1) determining eligibility of applicants for Extra Help; (2) redetermining eligibility of existing Extra Help beneficiaries during periodic screening; and (3) administering the Extra Help program.

The Privacy Act provides that no record contained in a system of records (SOR) may be disclosed for use in a computer matching program, except pursuant to a written agreement containing specified provisions. 5 U.S.C. 552a(o). SSA and OCSS are executing this agreement to comply with the Privacy Act and the regulations and guidance promulgated thereunder. OCSS and SSA have been parties to matching agreements for this purpose since April 1, 2005.

Categories of Individuals

The individuals whose information is involved in this matching program are applicants and beneficiaries of Extra Help (low-income subsidy assistance).

Categories of Records

SSA will provide OCSS the following data elements electronically in the finder file:

• Client's Own Social Security Number (COSSN)

• Name

OCSS will provide electronically to SSA the following data elements from the NDNH QW file:

• QW record identifier

• For employees:

(1) Name (first, middle, last)

(2) SSN

(3) Verification request code

(4) Processed date

(5) Non-verifiable indicator

(6) Wage amount

(7) Reporting period

• For employers of individuals in the QW file of the NDNH:

(1) Name

(2) Employer identification number

(3) Address(es)

• Transmitter Agency Code

• Transmitter State Code

• State or Agency Name

OCSS will provide electronically to SSA the following data elements from the NDNH UI file:

• UI record identifier

• Processed date

• SSN

• Verification request code

• Name (first, middle, last)

• Address

• UI benefit amount

• Reporting period

• Transmitter Agency Code

• Transmitter State Code

• State or Agency Name

Data Elements SSA updates in the OCSS Financial Items (OCSSFITM) table if there is a match:

• QW record identifier

• For employees:

(1) Employee's SSN

(2) Employee's wage amount

(3) Reporting period

• For employers of individuals:

(1) Employer identification number

(2) Employer's name

• Unemployment Insurance identifier:

(1) Claimant SSN

(2) Unemployment insurance benefit amount

(3) Reporting period

(4) Transmitter State Name

System(s) of Records

SSA's SOR is the Medicare Database file SOR, No. 60-0321, last fully published at 71 FR 42159 (July 25, 2006), amended at 72 FR 69723 (December 10, 2007), and at 83 FR 54969 (November 1, 2018).

OCSS will match SSA's information in the MDB against the QW and UI information furnished by state and federal agencies maintained in its SOR, “OCSS National Directory of New Hires” (NDNH), No. 09-80-0381, published in the Federal Register in full at 89 FR 25625 (April 11, 2024).

[FR Doc. 2025-06167 Filed 4-10-25; 8:45 am]

BILLING CODE 4191-02-P